SMALL BUSINESS ADMINISTRATION

Announcement of Startup in a Day Competition; Dream Big Model

AGENCY: U.S. Small Business Administration.

ACTION: Notice.

SUMMARY: The U.S. Small Business Administration (SBA) announces the 2015 Startup in a Day Competition—Dream Big Model, pursuant to the America Competes Act, to spur the development, implementation, and improvement of online tools that will let entrepreneurs learn about the business startup process in their area, including how to register and apply for all required local licenses and permits—all in one day or less.

DATES: The submission period for entries begins 12:00 p.m. EDT, June 11, 2015 and ends July 13, 2015 at 11:59 p.m. EDT. Winners will be announced no later than August 31, 2015.

ADDRESSES: For further information, please contact the U.S. Small Business Administration, Startup in a Day—IGA, 409 Third Street SW., Washington, DC 20416, (202) 205-7364, startup@sba.gov.

SUPPLEMENTARY INFORMATION:

Competition Details

1. Subject of Competition: The SBA is seeking to support entrepreneurs who are navigating the requirements to start a business. Currently many of these requirements are in multiple locations and a streamlined approach could help entrepreneurs startup more easily. The Startup in a Day Competition—Dream Big Model is designed to spur the development, implementation, and improvement of online tools that will let entrepreneurs learn about the business startup process in their area, including how to register and apply for all required local licenses and permits, in one day or less. This announcement, the Startup in a Day Competition—Dream Big Model, is specific for cities and Native American Communities that will develop an open source solution that may be freely adopted by localities across the United States. An “open source” solution is software that can be freely used, changed, and shared (in modified or unmodified form) by anyone ¹ and complies with generally accepted criteria for distribution outlined by the Open Source Initiative (for this criteria, see http://opensource.org/docs/osd#fields-of-endeavor). In order to maximize the success of this competition, SBA will work with the National League of Cities (NLC), an advocacy organization representing thousands of municipalities, to establish a formal mechanism by which all Startup in a Day competition winners will be able to collaborate and share best practices.

¹ Open Source Initiative, Welcome to The Open Source Initiative, Palo Alto, CA: Open Source Initiative. Accessed June 2, 2015, http://opensource.org/.

In conjunction with the Startup in a Day Competition, President Barack Obama is asking cities and Native American Communities across America to take a pledge to support entrepreneurs in their area by making it easier to start a business (for the text of this pledge, see sba.gov/startup). While it is not required to enter this Competition, all cities and Native American Communities are encouraged to take the pledge. As an additional encouragement, entries submitted by cities and Native American Communities that do take the pledge will receive five (5) bonus points during the evaluation process, as stipulated in Item 3: Part V below. Furthermore, all Startup in a Day Competition—Dream Big Model winners will be required to take the pledge prior to receiving their prizes.

An additional aim of this competition is to stimulate economic development in certain Priority Communities. For purposes of the Startup in a Day Competition—Dream Big Model, Priority Communities are those cities and Native American Communities that fall into one or more of the following categories:

• Rural/Non-Metropolitan: Cities or Native American Communities that have a population of less than 50,000. For cities, please reference http://quickfacts.census.gov/qfd/index.html. For Native American Communities, please reference the most appropriate source.

• High Poverty: Cities or Native American Communities where 20 percent or more of residents are below the poverty level. For cities, please reference http://quickfacts.census.gov/qfd/index.html. For Native American Communities, please reference the most appropriate source.

• Veterans Economic Community: Being an official participant in the Veterans Economic Communities Initiative. To view the list of participating cities, please go to http://www.blogs.va.gov/VAntage/20015/va-launches-campaign-increase-veterans-economic-potential/.

• Promise Zone: Being officially designated as a Promise Zone. To view the list of designated Promise Zones and lead organizations, please go to www.hud.gov/promisezones.

2. Eligibility Rules for Participating in the Competition: This Competition is open only to the local governments of United States cities (referred to as municipalities and townships by the U.S. Census Bureau ²) or American Indian, Alaska Native, or Native Hawaiian communities, or their constituent agencies and subdivisions. No city or Native American Community may submit more than one entry to the Startup in a Day Competition—Dream Big Model. However, cities and Native American Communities are allowed to apply to both the Startup in a Day Competition—Dream Big Model and to the Startup in a Day Competition—Start Small Model (see separate announcement). Cities and Native American Communities must submit a separate application for each competition. However, please note that a city or Native American Community cannot win a prize under both announcements. If a city or Native American Community is a finalist for both competitions, the city or Native American Community will be awarded the larger prize. No city or Native American Community that is currently suspended or debarred by the Federal government is eligible to take part in this Competition.

² U.S. Census Bureau, Governments Division, Lists and Structure of Governments, Washington, DC: U.S. Census Bureau. Accessed May 18, 2015, http://www.census.gov/govs/go/municipal_township_govs.html.

3. Registration Process for Contestants: Contestants in the Startup in a Day Competition—Dream Big Model must submit their entries online using the link designated for that purpose on challenge.gov, either by filtering search criteria to “Small Business Administration” or going to sba.gov/startup, where the link will be posted. In addition to the basic details collected in that short application form, contestants must also complete and submit via challenge.gov a proposal and attachments that addresses all of the items identified below:

AUTHORIZATION STATEMENT (Not to exceed one (1) page)

• A letter or signed statement by the city or Native American Community representative, council, or equivalent approving or authorizing the entry on behalf of the city or Native American Community.

PROPOSAL (Parts I-III not to exceed two (2) pages)

• Part I: City or Native American Community Description (20 points)

(i) Briefly describe your city or Native American Community and its story (include applicable data from the most current source (i.e. U.S. Census Bureau's ACS)). If your city or Native American Community qualifies as a Priority Community as defined in Item 1, also see Part IV below.

(ii) Describe the demand for registering and obtaining permits, resources, etc. for small businesses in your city or Native American Community (include quantitative analysis).

• Part II: Problem(s) and Solution(s) (40 points)

(i) Describe the current process, including the problems/obstacles, an entrepreneur experiences while trying to register and obtain permits, resources, etc. as a small businesses in your city or Native American Community.

(ii) Describe the solution that would solve the problems/obstacles described above, if awarded a prize.

• Part III: Implementation (40 points)

(i) Outline the anticipated timeframe for implementing the solution described above.

(ii) Describe the top five (5) metrics relevant to outputs and outcomes that would measure your city's or Native American Community's success in solving the stated problems/obstacles.

(iii) Describe any additional resources that will need to be leveraged, including partnerships, to fully implement the proposed solution.

OPTIONAL Proposal Addenda (Parts IV and V not to exceed one (1) page for each part)

• Part IV: Service to Priority Communities as Defined in Item 1 (up to 10 bonus points . . . five (5) points for each eligible Priority Community to be served, up to two (2) communities).

(i) State the Priority Community to be served.

(ii) Briefly describe the Priority Community in your city (include applicable data from the most current sources (i.e., U.S. Census Bureau's ACS)).

(iii) Describe the demand from the Priority Community for registering small businesses and/or obtaining permits, resources, etc. in your city or Native American Community (include quantitative analysis).

• Part V: Taking the Startup in a Day Pledge (five (5) bonus points). Cities and Native American Communities that sign the Startup in a Day Pledge (for the text of the pledge, see sba.gov/startup) will receive five (5) bonus points. Applicants only need to provide a statement that they agree to the Startup in a Day Pledge.

BUDGET (Part VI not to exceed one (1) page)

• Part VI: Outline a budget for the proposed solution including, but not limited to expenses and any additional funding and/or support required to fully implement the solution.

Proposals may not include any confidential and/or proprietary information and must be formatted as follows:

○ Length: No more than two (2) pages to answer Parts I-III. No more than one (1) page to answer Part IV, one (1) page to answer Part V, and one (1) page to answer Part VI.

○ Spacing: 1.5 lines.

○ Paper Size: 8.5 x 11 with three-quarter (.75) inch margins on all sides.

○ Font and Font Size: Calibri, 11 point.

4. Prizes for Winners: SBA will award up to $250,000 and up to two (2) prizes under this announcement to cities and Native American Communities that are selected as winners.

Because the subject of this competition is not just the development of online tools to streamline the business startup process, but also the implementation and improvement of such tools, prizes will be disbursed in three payments. The first payment, equal to 60 percent of a winner's total prize amount, will be disbursed once all initial requirements (i.e. taking the Startup in a Day pledge, etc.) have been met. The second payment, equal to 20 percent of a winner's total prize amount, will be disbursed after a winner has presented a demonstration of its open source solution to SBA and Agency staff has deemed that solution satisfactory. This demonstration must be presented within six (6) months of the date of the award unless otherwise specified by the SBA. The remaining 20 percent of the total prize amount will be disbursed after a winner submits a written assessment that includes, but is not limited to, the outcomes and outputs of its Startup in a Day activities as measured by the metrics outlined in its proposal, a summary of any lessons learned and best practices, and suggestions for any improvements to the design or implementation of similar competitions in the future. Winners must base this assessment on a period of live operation of their Startup in a Day Web tools that is at least six (6) months and no more than twelve (12) months in length.

Regardless of the length of the period of operation on which they are based, the written assessment must be submitted to SBA no later than 15 months after a winner receives its first prize payment. The written assessments, or portions thereof, may be made public. Further guidance regarding the format and means of submission of these assessments will be provided to winners prior to their acceptance of prizes.

All prizes will be paid via the Automated Clearing House (ACH) and winners will be required to create an account in the System for Award Management (SAM) in order to receive their prizes.

5. Selection of Winners: Competition entries will be evaluated by a review committee that may be comprised of SBA officials, employees of other Federal agencies, and/or private sector experts. Winners will be selected based on the quality, clarity, completeness, and feasibility of their proposals in addressing the issues outlined in Item 3 of this Competition announcement. In addition, in order to achieve nationwide distribution of prizes for the purpose of assisting business startups across the entire United States, SBA may take into account contestants' geographic locations and areas of service when selecting winners. For the announcement of winners, any travel or related expenses to attend an event will be the responsibility of the winner and may not be paid with prize funds.

6. Applicable Law: This Competition is being conducted by SBA pursuant to the America Competes Act (15 U.S.C. 3719) and is subject to all applicable federal laws and regulations. By participating in this Competition, each contestant gives its full and unconditional agreement to the Official Rules and the related administrative decisions described in this notice, which are final and binding in all matters related to the Competition. A contestant's eligibility for a prize award is contingent upon their fulfilling all requirements identified in this notice. Publication of this notice is not an obligation of funds on the part of SBA. SBA reserves the right to modify or cancel this Competition, in whole or in part, at any time prior to the award of prizes.

7. Conflicts of Interest: No individual acting as a judge at any stage of this Competition may have personal or financial interests in, or be an employee, officer, director, or agent of any contestant or have a familial or financial relationship with a contestant.

8. Intellectual Property Rights: All entries submitted in response to this Challenge will remain the sole intellectual property of the individuals or organizations that developed them. By registering and entering a submission, each contestant represents and warrants that it is the sole author and copyright owner of the submission, and that the submission is an original work of the contestant, or if the submission is a work based on an existing application, that the contestant has acquired sufficient rights to use and to authorize others to use the submission, and that the submission does not infringe upon any copyright or upon any other third party rights of which the contestant is aware.

9. Publicity Rights: By registering and entering a submission, each contestant consents to SBA's and its agents' use, in perpetuity, of its name, likeness, photograph, voice, opinions, and/or hometown and state information for promotional or informational purposes through any form of media, worldwide, without further payment or consideration.

10. Liability and Insurance Requirements: By registering and entering a submission, each contestant agrees to assume any and all risks and waive claims against the Federal Government and its related entities, except in the case of willful misconduct, for any injury, death, damage, or loss of property, revenue, or profits, whether direct, indirect, or consequential, arising from their participation in this Competition, whether the injury, death, damage, or loss arises through negligence or otherwise. By registering and entering a submission, each contestant further represents and warrants that it possesses sufficient liability insurance or financial resources to cover claims by a third party for death, bodily injury, or property damage or loss resulting from any activity it carries out in connection with its participation in this Competition, or claims by the Federal Government for damage or loss to Government property resulting from such an activity. Competition winners should be prepared to demonstrate proof of insurance or financial responsibility in the event SBA deems it necessary.

11. Record Retention and Disclosure: All submissions and related materials provided to SBA in the course of this Competition automatically become SBA records and cannot be returned. Contestants should identify any confidential commercial information contained in their entries at the time of their submission.

Award Approving Official: Christopher L. James, Associate Administrator, U.S. Small Business Administration, 409 Third Street SW., Washington, DC 20416.

Authority: 15 U.S.C.§ 3719.

Dated: June 8, 2015.
Christopher L. James,
Associate Administrator, Small Business Administration.

[FR Doc. 2015-14340 Filed 6-11-15; 8:45 am]

BILLING CODE 8025-01-P